DEPARTMENT OF LABOR

Office of the Secretary

Submission for OMB Review; Comment Request

April 11, 2002.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Marlene Howze at ((202) 693-4158 or Email Howze-Marlene@dol.gov.

Comments should be sent to Office of Information and Regulatory Affairs, Attn: OMB Desk Officer for BLS, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submission of responses.

Type of Review: New Collection.

Agency: Bureau of Labor Statistics (BLS).

Title: American Time Use Survey (ATUS).

OMB Number: 1220-0NEW.

Affected Public: Individuals or households.

Frequency: Monthly.

Estimated Time per Response and Total Burden Hours
Form | Total respondents | Frequency | Average time per response (minutes) | Estimated total burden (hours)
Pre-fielding: Nov.-Dec. 2002 | 4,000 | Once | 35 | 2,300
Full Production: Beginning Jan. 2003 | 24,000 | Annually | 35 | 14,000
Totals | 28,000 |  |  | 16,300

Total Annualized Capital/Startup Costs: $0.

Total Annual Costs (operating/maintaining systems or purchasing services): $0.

Description: The time use data collected in the American Time Use Survey (ATUS) will help determine how the population in the United States uses its time participating in such activities as paid work, child care, housework, volunteering, socializing, and commuting. This information will allow comparisons of time use across demographic characteristics such as age, sex, race, educational attainment, and labor force status. The ATUS data will help Federal, State, and local government policy makers more fully understand non-economic, as well as economic, effects of policy decisions, and to better determine when to develop new or change existing policies to address the needs of our society.

Ira L. Mills,
DOL Clearance Officer.

[FR Doc. 02-9650 Filed 4-18-02; 8:45 am]

BILLING CODE 4510-24-M